DEPARTMENT OF HEALTH AND HUMAN SERVICES

Administration for Children and Families

Submission for OMB Review; Comment Request

Title: National Child Abuse and Neglect Data System.

OMB No.: 0980-0229.

Description: The Child Abuse and Treatment Act [42 U.S.C. 5101 et seq.] as amended requires States that receive the CAPTA State Child Abuse and Neglect Grant “to annually work with the Secretary to provide, to the maximum extent practicable, a report” that includes the 12 data items listed in the statute. The National Child Abuse and Neglect Data System (NCANDS), administered by the Children's Bureau, meets this reporting requirement. In addition the amendments of 1988 requires that the data system “shall be universal and case specific and integrated with other case-based foster care and adoption data collected by the Secretary.” The Child File, the primary component of the National Child Abuse and Neglect Data System (NCANDS) is being updated to increase its compatibility with the Adoption and Foster Care Analysis and Reporting System (AFCARS) and to increase the detail of information that can be collected on a number of data items. The Summary Data Component is not being changed. The Summary Data Component will be phased out over the next few years, as the number of States that can complete the Child File increases.

Respondents: State Child Welfare Agencies.

Annual Burden Estimates
Instrument | Number of respondents | Number of responses per respondent | Average burden hours per response | Total burden hours
Child File (includes Agency File) | 52 | 1 | 113 | 5876
SDC | 6 | 1 | 32 | 192
Estimated Total Annual Burden Hours: |  |  |  | 6068

Additional Information: Copies of the proposed collection may be obtained by writing to The Administration for Children and Families, Office of Information Services, 370 L'Enfant Promenade, SW., Washington, DC 20447, Attn: ACF Reports Clearance Officer. E-mail address: rsargis@acf.hhs.gov

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Washington, DC, Attn: Desk Officer for ACF, E-mail: lauren_wittenburg@omb.eop.gov.

Dated: July 7, 2003.
Robert Sargis,
Reports Clearance Officer.

[FR Doc. 03-17741 Filed 7-11-03; 8:45 am]

BILLING CODE 4184-01-M